DEPARTMENT OF THE INTERIOR

[AZ-070-01-1232-EA, SRP-070-01-07/08]

Bureau of Land Management

AGENCY: Bureau of Land Management, Interior.

ACTION: Temporary Closure of Selected Public Lands in La Paz County, Arizona, during the operation of the 2001 Whiplash Parker 400K/200K (kilometer) Desert Races.

SUMMARY: The Lake Havasu Field Office Manager announces the temporary closure of selected public lands under its administration in La Paz County, Arizona. This action is being taken to help ensure public safety and prevent unnecessary environmental degradation during the official permitted running of the 2001 Whiplash Parker 400K/200K Desert Races.

DATES: February 2, 2001, through February 4, 2001.

SUPPLEMENTARY REGULATIONS: Specific restrictions and closure periods are as follows:

Designated Course

1. The portion of the race course comprised of BLM lands, roads and ways located two miles either side of:

(a) Shea Road from the eastern boundary of the Colorado River Indian Tribes Reservation to the junction with Swansea Road, and two miles either side of Swansea Road from its junction with Shea Road to the eastern bank of the Central Arizona Project Canal.

(b) Swansea Road from its junction with Shea Road to the Four Corners intersection. The unpaved road from Midway north to Mineral Wash, and then west to the CAP Canal is closed to public use from 6:00 a.m. Friday, February 2, 2001 to 6:00 p.m. Sunday, February 4, 2001.

2. The entire designated race course is closed to all vehicles except authorized and emergency vehicles.

3. Vehicle parking or stopping in areas affected by the closure is prohibited except in the designated spectator areas. Emergency parking for brief periods of time is permitted on roads open for public use.

4. Spectator viewing on public land is limited to the designated spectator areas located south and north of Shea Road, as signed, approximately eight miles east of Parker, Arizona.

5. The following regulations will be in effect for the duration of the closure. Unless otherwise authorized, no person shall:

a. Camp in any area outside of the designated spectator areas.

b. Enter any portion of the race course or any wash located within the race course, including all portions of Osborne Wash.

c. Spectate or otherwise be located outside of the designated spectator or pit areas.

d. Possess or use fireworks.

e. Operate any vehicle, other than registered event vehicles, which is not legally registered for street and highway operation, including operation of such a vehicle in any area affected by this closure.

f. Park any vehicle in violation of posted restrictions, or in such a manner as to obstruct or impede normal or emergency traffic movement or the parking of other vehicles, create a safety hazard, or endanger any person, property or feature.

g. Take any vehicle through, around or beyond a restrictive sign, recognizable barricade, fence or traffic control barrier.

h. Fail to keep their campsite/viewing area free of trash and litter during the period of occupancy or fail to remove all personal equipment, trash, and litter upon departure.

Signs and maps directing the public to the designated spectator areas will be provided by the Bureau of Land Management and/or the event sponsor. The above restrictions do not apply to emergency vehicles and vehicles owned by the United States, the State of Arizona or La Paz County. Vehicles under permit for operation by event participants must follow the race permit stipulations. Authority for closure of public lands is found in 43 CFR 8340, Subpart 8341; 43 CFR 8360, Subpart 8364.1, and 43 CFR 8372. Persons who violate this closure order are subject to arrest and, upon conviction, may be fined not more than $100,000 and/or imprisoned for not more than 12 months.

FOR FURTHER INFORMATION CONTACT: Bryan Pittman, District Law Enforcement Ranger, or Myron McCoy, Outdoor Recreation Planner, Bureau of Land Management Lake Havasu Field Office, 2610 Sweetwater Avenue, Lake Havasu City, Arizona 86406, (520) 505-1200.

Dated: January 10, 2001.
Donald Ellsworth,
Field Manager, Lake Havasu Field Office.

[FR Doc. 01-1605 Filed 1-19-01; 8:45 am]

BILLING CODE 4310-32-P